COMMITTEE FOR THE IMPLEMENTATION OF TEXTILE AGREEMENTS

Determination under the Textile and Apparel Commercial Availability Provision of the Dominican Republic-Central America-United States Free Trade Agreement (CAFTA-DR Agreement)

August 9, 2007.

AGENCY: The Committee for the Implementation of Textile Agreements (CITA).

ACTION: Determination to add a product in unrestricted quantities to Annex 3.25 of the CAFTA-DR Agreement.

EFFECTIVE DATE: August 15, 2007.

SUMMARY: The Committee for the Implementation of Textile Agreements (CITA) has determined that certain circular knit, three-end fleece fabrics, as specified below, are not available in commercial quantities in a timely manner in the CAFTA-DR region. The product will be added to the list in Annex 3.25 of the CAFTA-DR Agreement in unrestricted quantities.

FOR FURTHER INFORMATION CONTACT: Maria Dybczak, Office of Textiles and Apparel, U.S. Department of Commerce, (202) 482 3651.

FOR FURTHER INFORMATION ON-LINE: http://web.ita.doc.gov/tacgi/CaftaReqTrack.nsf. Reference number: 27.2007.07.06.Fabric.ST&RforGaranMfg

SUPPLEMENTARY INFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. Articles that otherwise meet the rule of origin to qualify for preferential treatment are not disqualified because they contain one of the products on the Annex 3.25 list.

The CAFTA-DR Agreement provides that this list may be modified pursuant to Article 3.25(4)-(5), when the President of the United States determines that a fabric, yarn, or fiber is not available in commercial quantities in a timely manner in the territory of any Party. The CAFTA-DR Act states that the President will make a determination on whether additional fabrics, yarns, and fibers are available in commercial quantities in a timely manner in the territory of any Party.

The CAFTA-DR Act requires the President to establish procedures governing the submission of a request and providing opportunity for interested entities to submit comments and supporting evidence before a commercial availability determination is made. In Presidential Proclamations 7987 and 7996, the President delegated to CITA the authority under section 203(o)(4) of the CAFTA-DR Act for modifying the Annex 3.25 list. On March 21, 2007, CITA published final procedures it would follow in considering requests to modify the Annex 3.25 list (72 FR 13256).

On July 6, 2007, the Chairman of CITA received a request from Sandler, Travis & Rosenberg, P.A., on behalf of their client, Garan Manufacturing, for certain circular knit, three-end fleece fabrics of the specifications detailed below. On July 10, 2007, CITA notified interested parties of, and posted on its website, the accepted request and requested that any interested entity provide, by July 20, 2007, a response advising of its objection to the request or its ability to supply the subject product, and rebuttals to responses by July 26, 2007.

No interested entity filed a response advising of its objection to the request or its ability to supply the subject product.

In accordance with Section 203(o)(4)(C)(iii)(II) of the CAFTA-DR Act, and its procedures, as no interested entity submitted a response objecting to the request or expressing an ability to supply the subject product, CITA has determined to add the specified fabrics to the list in Annex 3.25 of the CAFTA-DR Agreement.

The subject fabrics are added to the list in Annex 3.25 of the CAFTA-DR Agreement in unrestricted quantities. A revised list has been published on-line.

Specifications:

HTS Subheading: | 6001.21
Fiber Content: | 70% cotton / 30% polyester
Average Yarn Number: |
| Face yarn - 100% combed cotton; 50/1 to 57/1 metric (30/1 to 34/1)
| Tie yarn -100% filament polyester, 179 metric/ 48 filaments; (50 denier / 48 filaments)
| Fleece yarn - 60% combed cotton/40% polyester; 18/1 to 20/1 metric (9/1 to 12/1)
Gauge: | 21
Weight: | 271 to 300 grams per square meter (8.0 to 8.85 ounces per square yard)
Width: | 152 to 183 centimeters (60 to 72 inches)
Finish: | (Piece) dyed; printed

In addition, technical back must be heavily napped to produce a fabric thickness of not less than 4.5 millimeters, including the napped pile. Additionally, a portion of the fabric is brushed on the technical face to produce a sueded hand and appearance and a portion is treated with a stain release finish. Finally, the following performance criteria must be satisfied:

Vertical and horizontal shrinkage must be less than 5%

Torque may not exceed 4%

All fabrics must have a Class 1 flammability rating

For optimum fabric integrity and stitch definition, this fabric must be knit on machines whose number of yarn feeds is a multiple of 3.

R. Matthew Priest,
Chairman, Committee for the Implementation of Textile Agreements.

[FR Doc. E7-16058 Filed 8-14-07; 8:45 am]

BILLING CODE 3510-DS-S